DEPARTMENT OF ENERGY

Federal Energy Regulatory Commission

[Docket Nos. ER05-725-000 and ER05-725-001]

Deephaven RV Sub Fund Ltd.; Notice of Issuance of Order

June 1, 2005.

Deephaven RV Sub Fund Ltd. (Deephaven) filed an application for market-based rate authority, with an accompanying tariff. The proposed rate tariff provides for wholesale sales of energy, capacity and ancillary services at market-based rates. Deephaven also requested waiver of various Commission regulations. In particular, Deephaven requested that the Commission grant blanket approval under 18 CFR part 34 of all future issuances of securities and assumptions of liability by Deephaven.

On May 26, 2005, the Commission granted the request for blanket approval under part 34, subject to the following:

Any person desiring to be heard or to protest the blanket approval of issuances of securities or assumptions of liability by Deephaven should file a motion to intervene or protest with the Federal Energy Regulatory Commission, 888 First Street, NE., Washington, DC 20426, in accordance with Rules 211 and 214 of the Commission's Rules of Practice and Procedure. 18 CFR 385.211, 385.214 (2004).

Notice is hereby given that the deadline for filing motions to intervene or protest, is June 27, 2005.

Absent a request to be heard in opposition by the deadline above, Deephaven is authorized to issue securities and assume obligations or liabilities as a guarantor, indorser, surety, or otherwise in respect of any security of another person; provided that Deephaven, compatible with the public interest, and is reasonably necessary or appropriate for such purposes.

The Commission reserves the right to require a further showing that neither public nor private interests will be adversely affected by continued approval of Deephaven's issuances of securities or assumptions of liability.

Copies of the full text of the Commission's Order are available from the Commission's Public Reference Room, 888 First Street, NE., Washington, DC 20426. The Order may also be viewed on the Commission's Web site at http://www.ferc.gov, using the eLibrary link. Enter the docket number excluding the last three digits in the docket number filed to access the document. Comments, protests, and interventions may be filed electronically via the internet in lieu of paper. See 18 CFR 385.2001(a)(1)(iii) and the instructions on the Commission's Web site under the “e-Filing” link. The Commission strongly encourages electronic filings.

Magalie R. Salas,
Secretary.

[FR Doc. E5-2991 Filed 6-9-05; 8:45 am]

BILLING CODE 6717-01-P